DEPARTMENT OF TRANSPORTATION

Federal Aviation Administration

Proposed Advisory Circular 23-xx-22, Guidance for Approved Model List (AML) Supplemental Type Certificate (STC) Approval of Part 23 Airplane Avionics Installations

AGENCY: Federal Aviation Administration (FAA), DOT.

ACTION: Notice of availability of proposed advisory circular (AC) and request for comments.

SUMMARY: This notice announces the availability of and requests comments on a proposed advisory circular (AC) that sets forth acceptable methods of compliance with 14 CFR, part 23 concerning Approved Model List STC approval. This notice is necessary to give all interested persons an opportunity to present their views on the proposed AC.

DATES: Comments must be received on or before November 8, 2004.

ADDRESSES: Send all comments on the proposed AC to: Federal Aviation Administration, Small Airplane Directorate, Aircraft Certification Service, Programs and Procedures (ACE-114), 901 Locust Street, Kansas City, Missouri 64106. Electronic comments may be sent to the individual named under FOR FURTHER INFORMATION CONTACT.

FOR FURTHER INFORMATION CONTACT: Mr. Wes Ryan (wes.ryan@faa.gov), Standards Office, Small Airplane Directorate, Aircraft Certification Service, Kansas City, Missouri 64106, telephone (816) 329-4125, fax (816) 329-4090.

SUPPLEMENTARY INFORMATION: Any person may obtain a copy of this proposed AC by contacting the person named above under FOR FURTHER INFORMATION CONTACT. A copy of the AC will also be available on the internet at http://www.airweb.faa.gov/AC within a few days.

Comments Invited: We invite interested parties to submit comments on the proposed AC. Commenters must identify AC 23-xx-22 and submit comments to the address specified above. The FAA will consider all communications received on or before the closing date for comments before issuing the final AC. The proposed AC and comments received may be inspected at the Standards Office (ACE-110), 901 Locust, Room 301, Kansas City, Missouri, between the hours of 8:30 a.m. and 4 p.m. weekdays, except Federal holidays, by making an appointment in advance with the person listed under FOR FURTHER INFORMATION CONTACT.

Background: The advisory circular sets forth guidelines for using the Approved Model List (AML) Supplemental Type Certificate (STC) process for the installation approval of avionics for 14 CFR, part 23 airplanes, including airplanes certified under prior certification bases, such as CAR 3 or bulletin 7-A. This AC provides guidance to FAA personnel, equipment manufacturers, and avionics equipment installers.

Issued in Kansas City, Missouri, on September 28, 2004.
Dorenda D. Baker,
Manager, Small Airplane Directorate, Aircraft Certification Service.

[FR Doc. 04-22608 Filed 10-7-04; 8:45 am]

BILLING CODE 4910-13-P